DEPARTMENT OF THE INTERIOR

Bureau of Reclamation

Fish and Wildlife Service

Final Environmental Impact Statement/Environmental Impact Report (EIS/EIR) for the Suisun Marsh Habitat Management, Preservation and Restoration Plan, California

AGENCIES: Bureau of Reclamation and Fish and Wildlife Service, Interior.

ACTION: Notice of availability.

SUMMARY: The Bureau of Reclamation (Reclamation) and the U.S. Fish and Wildlife Service (Service), as the National Environmental Policy Act (NEPA) Federal joint lead agencies, and the State of California Department of Fish and Game (DFG), acting as the California Environmental Quality Act lead agency, have prepared the Suisun Marsh Habitat, Management, Preservation, and Restoration Plan (SMP) Final EIS/EIR. The SMP is a comprehensive plan designed to address the various conflicts regarding use of Suisun Marsh resources, with the focus on achieving an acceptable multi-stakeholder approach to the restoration of tidal wetlands and the management of managed wetlands and their functions.

DATES: Reclamation and the Service will not make a decision on the proposed action until at least 30 days after release of the Final EIS/EIR. After the 30 day waiting period, Reclamation and the Service will complete a Record of Decision (ROD). The ROD will state the actions that will be implemented by each agency and will discuss factors leading to the decisions.

ADDRESSES: A compact disk or a copy of the Final EIS/EIR may be requested from Ms. Becky Victorine, Bureau of Reclamation, Bay-Delta Office, 801 I Street, Suite 140, Sacramento, California 95814-2536, or emailed to rvictorine@usbr.gov, or by calling (916) 414-2429. The Final EIS/EIR is also accessible from the following Web site: http://www.usbr.gov/mp/nepa/nepa_projdetails.cfm?Project_ID=781.

FOR FURTHER INFORMATION CONTACT: Ms. Becky Victorine, Bureau of Reclamation, (916) 414-2429, rvictorine@usbr.gov; or Ms. Cay Goude; U.S. Fish and Wildlife Service, (916) 414-6600, cay_goude@fws.gov.

SUPPLEMENTARY INFORMATION: Suisun Marsh (Marsh) is the largest contiguous brackish water marsh remaining on the west coast of North America and is a critical part of the San Francisco Bay/Sacramento—San Joaquin Delta (Bay-Delta) estuary ecosystem. The values of the Marsh have been recognized as important and several agencies have been involved in its protection since the mid-1970s. In 2001, the principal Federal, State and local agencies that have jurisdiction or interest in the Marsh directed the formation of a charter group to develop a plan for the Marsh that would balance the needs of the California Bay-Delta Authority (CALFED), the Suisun Marsh Preservation Agreement, and other plans by protecting and enhancing existing land uses, existing waterfowl and wildlife values, including those associated with the Pacific Flyway, endangered species, and state and Federal water project supply quality. A subset of this charter group has collaboratively prepared the SMP Final EIS/EIR. The principal agencies include the Service, Reclamation, National Marine Fisheries Service (NMFS), DFG, State of California Department of Water Resources, and Suisun Resource Conservation District. Each principal agency would use this EIS/EIR to implement particular actions described and analyzed in the document that would contribute to the overall implementation of the SMP. NMFS and the U.S. Army Corps of Engineers are cooperating agencies in accordance with NEPA.

The SMP preferred alternative includes restoring 5,000 to 7,000 acres in the Marsh to fully functioning, self-sustaining tidal wetland and protecting and enhancing existing tidal wetland acreage; and improving levee stability and flood and drain capabilities of the remaining 44,000 to 46,000 acres of managed wetlands. The plan is intended to guide near-term and future actions related to restoration of tidal wetlands and managed wetland activities in the Marsh. Restoration of tidal wetlands under the SMP preferred alternative would implement the tidal restoration goal established for the Marsh by the CALFED Ecosystem Restoration Program Plan, and would contribute to the tidal restoration goals of the San Francisco Bay Area Wetlands Ecosystem Goals Project, and the Service's Draft Recovery Plan for Tidal Marsh Ecosystems of Northern and Central California for the Suisun Bay Area Recovery Unit. SMP actions would be implemented over the 30-year SMP timeframe. Benefits from individual tidal restoration projects would change as elevations rise, vegetation becomes established, and vegetation communities shift over time from low marsh to high marsh condition.

The intended outcomes of the managed wetlands activities described in the SMP EIS/EIR are to maintain and improve habitat conditions and minimize or avoid adverse effects of wetland operations. Most of these activities are already occurring in the Marsh; however, some of the current activities would be modified, and some new activities would be conducted, as described in detail in the SMP EIS/EIR.

The SMP EIS/EIR documents the direct, indirect, and cumulative effects to the physical, biological, and socioeconomic environment that may result from the SMP, including potential effects on hydrology, water quality, geology, groundwater, flood control, sediment transport, transportation and navigation, air quality, noise, climate change, fish, vegetation and wetlands, wildlife, visual resources, cultural resources, land and water use, social and economic conditions, utilities and public services, recreation, power, public health and environmental hazards, environmental justice, and Indian trust assets.

Public meetings on the draft EIS/EIR were held on Thursday, November 18, 2010, in Suisun City, CA, and Benicia, CA.

Public Disclosure

Before including your name, address, phone number, email address, or other personal identifying information in your comment, you should be aware that your entire comment—including your personal identifying information—may be made publicly available at any time. While you can ask us in your comment to withhold your personal identifying information from public review, we cannot guarantee that we will be able to do so.

Dated: November 30, 2011.
Michelle Denning,
Acting Regional Director, Mid-Pacific Region, U.S. Bureau of Reclamation.
November 30, 2011.
Paul McKim,
Acting Deputy Regional Director, Pacific Southwest Region, U.S. Fish and Wildlife Service.

[FR Doc. 2011-31245 Filed 12-5-11; 8:45 am]

BILLING CODE 4310-MN-P